DEPARTMENT OF AGRICULTURE

Farm Service Agency

Commodity Credit Corporation

Information Collection; Noninsured Crop Disaster Assistance Program

AGENCY: Farm Service Agency and Commodity Credit Corporation and, USDA.

ACTION: Notice; request for comments.

SUMMARY: In accordance with the Paperwork Reduction Act of 1995, the Farm Service Agency and the Commodity Credit Corporation are seeking comments from all interested individuals and organizations on an extension with a revision of a currently approved information collection in support of the Noninsured Crop Disaster Assistance Program (NAP). The information collected is needed from producers to determine eligibility for NAP assistance.

DATES: We will consider comments that we receive by October 7, 2013.

ADDRESSES: We invite you to submit comments on this notice. In your comments, include date, OMB control number, volume, and page number of this issue of the Federal Register. You may submit comments by any of the following methods:

• Federal eRulemaking Portal: Go to www.regulations.gov. Follow the online instructions for submitting comments.

• Mail: Daniel McGlynn, Acting Division Director, Production, Emergencies, and Compliance Division, Farm Service Agency, USDA, Mail Stop 0517, 1400 Independence Avenue SW., Washington, DC 20250-0517.

You may also send comments to the Desk Officer for Agriculture, Office of Information and Regulatory Affairs, Office of Management and Budget, Washington, DC 20503.

FOR FURTHER INFORMATION CONTACT: Terry Hill, Section Head, Crop Disaster Section, Disaster Assistance Branch, (202) 720-3087.

SUPPLEMENTARY INFORMATION:

Description of Information Collection

Title: Noninsured Crop Disaster Assistance Program.

OMB Control Number: 0560-0175.

Expiration Date: January 31, 2014.

Type of Request: Extension with a revision

Abstract: NAP is authorized under 7 U.S.C. 7333 and implemented under regulations issued at 7 CFR Part 1437. NAP is administered under the general supervision of the Executive Vice-President of CCC (who also serves as Administrator, FSA), and is carried out by FSA State and County committees. The information collected allows CCC to provide assistance under NAP for losses of commercial crops or other agricultural commodities (except livestock) for which catastrophic risk protection under 7 U.S.C 1508(b) is not available, and that are produced for food or fiber.

Additionally, NAP provides assistance for losses of floriculture, ornamental nursery, Christmas tree crops, turfgrass sod, seed crops, aquaculture (including ornamental fish), sea oats and sea grass, and industrial crops. The information collected is necessary to determine whether a producer and crop or commodity meet applicable conditions for assistance and to determine compliance with existing rules. Eligible producers must annually: (1) Request NAP coverage by completing an application for coverage and paying a service fee by the CCC-established application closing date; (2) file a report of acreage, inventory, or physical location of the operation, as applicable for the covered crop or commodity; and (3) certify harvested production of each covered crop or commodity. When damage to a covered crop or commodity occurs, producers must file a notice of loss with the local FSA administrative county office within 15 calendar days of occurrence or 15 calendar days of the date damage to the crop or commodity becomes apparent. Producers must also file an application for payment by the CCC established deadline, and complete a certification of average adjusted gross income and consent for disclosure of tax information with the local FSA County office.

Web modernization projects delivered in fiscal years 2012 and 2013 enabled NAP applications on the web. The NAP applications were enhanced to retrieve data from acreage reporting software to reduce manual data entry errors, and prohibit a payment from being issued without an acreage report on file. The NAP applications provide a timelier, more accurate, and more reliable delivery of benefits to producers. The Notice of Loss form was revised for more efficient data entry in the Web-enabled environment. Producers are no longer required to provide certain additional information with the form and are no longer required to file multiple Notices of Loss when multiple crops are affected by the same disaster event. Therefore, FSA expects a reduction in the annual total burden hours for collection of the information.

Estimated Burden: Public reporting burden for this information collection is estimated to average 1.33 hours per response. The average travel time, which is included in the total annual burden, is estimated to be 1 hour per respondent.

Type of Respondents: Producers of commercial crops or other agricultural commodities (except livestock).

Estimated Annual Number of Respondents: 291,500.

Estimated Annual Number of Forms Filed per Respondent: 3.

Estimated Total Number of Responses: 1,526,402.

Estimated Total Annual Burden Hours: 2,031,830.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on July 26, 2013.
Juan M. Garcia,
Executive Vice President, Commodity Credit Corporation, and Administrator, Farm Service Agency.

[FR Doc. 2013-19016 Filed 8-7-13; 8:45 am]

BILLING CODE 3410-05-P